DEPARTMENT OF ENERGY

Federal Energy Regulatory Commission

Notice of Scoping Meetings, Technical Conference, Site Visit and Soliciting Scoping Comments

March 11, 2005.

Take notice that the following hydroelectric application has been filed with Commission and are available for public inspection:

a. Type of Application: New major license.

b. Project No.: 11882-002.

c. Date filed: May 27, 2004.

d. Applicant: Fall River Rural Electric Cooperative, Inc.

e. Name of Project: Hebgen Dam Hydroelectric Project.

f. Location: On the Madison River, near the town of West Yellowstone, Gallatin County, Montana. The project is located in the Gallatin National Forest and is within close proximity to Yellowstone National Park.

g. Filed Pursuant to: Federal Power Act, 16 U.S.C. 791(a)-825(r).

h. Applicant Contact: Brent L. Smith, Northwest Power Services, Inc. PO Box 535, Rigby, Idaho 83442; telephone (208) 745-0834 or by e-mail at bsmith@nwpwrservices.com.

i. FERC Contact: Kim A. Nguyen, Federal Energy Regulatory Commission, 888 First Street, NE., Washington, DC 20426; telephone (202) 502-6105 or by e-mail at kim.nguyen@ferc.gov.

j. Deadline for filing scoping comments: May 13, 2005.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The Hebgen Dam Hydroelectric Project will consist of a powerhouse with a single turbine generator unit of approximately 6.7 megawatt capacity at the area downstream of the dam and immediately north of the present outlet discharge. The Applicant also proposes to install a new 9.4-mile, 25-kilovolt underground power transmission line to connect the powerhouse with the existing Fall River Rural Electric Cooperative's Hebgen substation located near Grayline, Montana. The Applicant proposes to utilize the existing Hebgen Dam, Hebgen Resevoir, outlet works, and spillway, currently owned and operated by Pennsylvania Power and Light Montana, LLC (PPL Montana) as a regulating reservoir under the Missouri-Madison Hydroelectric Project, FERC No. 2188.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process. The Commission intends to prepare an Environmental assessment (EA) on the project in accordance with the National Environmental Policy Act. The EA will consider both site-specific and cumulative environmental impacts and reasonable alternatives to the proposed action.

Scoping Meetings

FERC staff will conduct one daytime scoping meeting and one evening meeting. The daytime scoping meeting will focus on resource agency and non-governmental organization concerns, while the evening scoping meeting is primarily for public input. All interested individuals, organizations, and agencies are invited to attend one or both of the meetings, and to assist the staff in identifying the scope of the environmental issues that should be analyzed in the EA. The times and locations of these meetings are as follows:

Daytime Scoping Meeting

Date: Tuesday, April 12, 2005.

Time: 10 a.m. (m.s.t.).

Place: West Yellowstone Conference Center.

Address: 315 Yellowstone Avenue, West Yellowstone, Montana.

Evening Scoping Meeting

Date: Tuesday, April 12, 2005.

Time: 7 p.m.

Place: West Yellowstone Conference Center.

Address: 315 Yellowstone Avenue, West Yellowstone, Montana.

Copies of the Scoping Document (SD1) outlining the subject areas to be addressed in the EA were distributed to the parties on the Commission(s mailing list. Copies of the SD1 will be available at the scoping meeting or may be viewed on the Web at http://www.ferc.gov using the “eLibrary” link (see item m above).

Site Visit

The Applicant and FERC staff will conduct a project site visit beginning at 10 a.m. on April 13, 2005. All interested individuals, organizations, and agencies are invited to attend. All participants should meet at the Hebgen Dam. All participants are responsible for their own transportation to the site. Anyone with questions about the site visit should contact Kim Nguyen of FERC at (202) 502-6105 or Brent Smith of Fall River at (208) 745-0834.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Technical Conference

At the technical conference, we will discuss how the proposed project would affect PPL Montana's Missouri-Madison Project (FERC No. 2188). This technical conference will not be recorded by a court reporter, however, we will summarize the meeting in a filing of public record for the project.

Technical Conference

Date: Wednesday, April 13, 2005.

Time: 2 p.m.

Place: West Yellowstone Conference Center.

Address: 315 Yellowstone Avenue, West Yellowstone, Montana.

Magalie R. Salas,
Secretary.

[FR Doc. E5-1177 Filed 3-17-05; 8:45 am]

BILLING CODE 6717-01-P